DEPARTMENT OF HEALTH AND HUMAN SERVICES

Centers for Disease Control and Prevention

Request for Nominations of Candidates To Serve on the Mine Safety and Health Research Advisory Committee (MSHRAC), National Institute for Occupational Safety and Health, Centers for Disease Control and Prevention (CDC), Department of Health and Human Services

The CDC is soliciting nominations for possible membership on the Mine Safety and Health Research Advisory Committee (MSHRAC), National Institute for Occupational Safety and Health (NIOSH).

The MSHRAC consists of 13 experts in fields related to mining safety and health. The members are selected by the Secretary of the U.S. Department of Health and Human Services (HHS). The committee advises the NIOSH Director on mining safety and health research and prevention programs. The committee also provides advice on standards of scientific excellence, current needs in the field of mining safety and health, and the applicability and dissemination of research findings. This advice may take the form of reports or verbal communications to the NIOSH Director during MSHRAC meetings.

Nominations are being sought for individuals who have expertise and qualifications necessary to contribute to the accomplishment of the committee's mission.

Nominees will be selected based on expertise in the field of mining safety and health, such as mining engineering, industrial hygiene, occupational safety and health engineering, chemistry, safety and health education, ergonomics, epidemiology, statistics, and psychology. Members may be invited to serve for terms of up to four years.

The U.S. Department of Health and Human Services policy stipulates that Committee membership be balanced in terms of points of view represented, and the committee's function. Appointments shall be made without discrimination on the basis of age, race, ethnicity, gender, sexual orientation, gender identity, HIV status, disability, and cultural, religious, or socioeconomic status. Nominees must be U.S. citizens, and cannot be full-time employees of the U.S. Government. Current participation on federal workgroups or prior experience serving on a federal advisory committee does not disqualify a candidate; however, HHS policy is to avoid excessive individual service on advisory committees and multiple committee memberships. Committee members are Special Government Employees, requiring the filing of financial disclosure reports at the beginning and annually during their terms. CDC reviews potential candidates for the MSHRAC membership each year, and provides a slate of nominees for consideration to the Secretary of HHS for final selection.

Candidates should submit the following items:

• Current curriculum vitae, including complete contact information (name, affiliation, mailing address, telephone number, email address)

• A letter of recommendation stating the qualifications of the candidate.

Nomination materials must be postmarked by April 30, 2017, and sent to: Jeffrey H. Welsh, Designated Federal Officer for MSHRAC, NIOSH, CDC, 626 Cochrans Mill Road, Pittsburgh, PA 15236, telephone (412) 386-4040.

The Director, Management Analysis and Services Office, has been delegated the authority to sign Federal Register Notices pertaining to announcements of meetings and other committee management activities, for the Centers for Disease Control and Prevention and the Agency for Toxic Substances and Disease Registry.

Elaine L. Baker,
Director, Management Analysis and Services Office, Centers for Disease Control and Prevention.

[FR Doc. 2017-04104 Filed 3-2-17; 8:45 am]

BILLING CODE 4163-18-P